ENVIRONMENTAL PROTECTION AGENCY

[FRL-11901-01-OA]

Local Government Advisory Committee (LGAC) and Small Communities Advisory Subcommittee (SCAS) Meeting

AGENCY: Environmental Protection Agency (EPA).

ACTION: Notification of public meeting.

SUMMARY: Pursuant to the Federal Advisory Committee Act (FACA), EPA herby provides notice of a meeting for the Local Government Advisory Committee (LGAC) and its Small Communities Advisory Subcommittee (SCAS) on the date and time described below. This meeting will be open to the public. For information on public attendance and participation, please see the registration information under SUPPLEMENTARY INFORMATION.

DATES: The SCAS will have a hybrid meeting prior to the LGAC on May 21st, 2024, from 8 a.m. to 9:30 a.m. eastern daylight time and the LGAC will have a hybrid meeting from 9:30 a.m. to 5 p.m. eastern daylight time.

FOR FURTHER INFORMATION CONTACT: Paige Lieberman, Designated Federal Officer (DFO), at LGAC@epa.gov or 202-564-9957.

Information on Accessibility: For information on access or services for individuals requiring accessibility accommodations, please contact Paige Lieberman by email at LGAC@epa.gov. To request accommodation, please do so five (5) business days prior to the meeting, to give EPA as much time as possible to process your request.

SUPPLEMENTARY INFORMATION:

Content

The LGAC will discuss several priority issues at EPA, including climate communication, environmental justice, and EPA's efforts to address cumulative impacts, and the reduction of plastic pollution. The SCAS will discuss a series of topics, including improving federal funding to smaller communities, and cyber security for small water systems. Agenda and meeting materials will be posted online (link below) one week prior to the meeting.

Registration

The meeting will be held virtually as well as in person. Members of the public who wish to participate should register by contacting the Designated Federal Officer (DFO) at LGAC@epa.gov by May 17, 2024.

Online participation will be via Microsoft Teams. In person participation will be Courtyard Marriott Hotel, 140 L St. SE, Washington, DC, 20003.

Once available, the agenda and other supportive meeting materials will be available online at https://www.epa.gov/ocir/local-government-advisory-committee-lgac and will be emailed to all registered. In the event of cancellation for unforeseen circumstances, please contact the DFO or check the website above for reschedule information.

Edlynzia Barnes,
Designated Federal Officer, Office of Congressional and Intergovernmental Relations.

[FR Doc. 2024-08643 Filed 4-22-24; 8:45 am]

BILLING CODE 6560-50-P